DEPARTMENT OF AGRICULTURE

National Agricultural Statistics Service

Notice of Intent To Extend Approval of an Information Collection

AGENCY: National Agricultural Statistics Service, USDA.

ACTION: Notice and request for comments.

SUMMARY: In accordance with the Paperwork Reduction Act of 1995 (Pub. L. No. 104-13) and Office of Management and Budget regulations at 5 CFR part 1320 (60 FR 44978, August 29, 1995), this notice announces the intent of the National Agricultural Statistics Service (NASS) to request an extension of a currently approved information collection, the Agricultural Economics and Land Ownership Survey.

DATES: Comments on this notice must be received by July 27, 2000 to be assured of consideration.

ADDITIONAL INFORMATION OR COMMENTS: Contact Rich Allen, Associate Administrator, National Agricultural Statistics Service, U.S. Department of Agriculture, 1400 Independence Avenue SW, Room 4117 South Building, Washington, D.C. 20250-2000, (202) 720-4333.

SUPPLEMENTARY INFORMATION: Title: Agricultural Economics and Land Ownership Survey.

OMB Control Number: 0535-0240.

Expiration Date of Approval: June 30, 2000.

Type of Request: Intent to Extend Approval of an Information Collection.

Abstract: The 1999 Agricultural Economics and Land Ownership Survey (AELOS) is being conducted by the National Agricultural Statistics Service. This national survey obtains data to describe the economic status of the U.S. farm operations and farm households. Data collected will provide information on agricultural land ownership, financing, and inputs by farm operators and landlords. The AELOS is designed to provide data that are valid for each state and the U.S. as a whole. It is being conducted in 2000 for the 1999 calendar year. The respondent universe consists of two populations. First is the official USDA farm population which is defined as “all establishments that sold or would have normally sold at least $1,000 of agricultural products during the year.” Second are the landlords of farm operators selected for the survey. This request is for an extension of survey approval through September 30, 2000. These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 48 minutes per response.

Respondents: Farms, individuals.

Estimated Number of Respondents: 72,000.

Estimated Total Annual Burden on Respondents: 58,100.

Copies of this information collection and related instructions can be obtained without charge from Ginny McBride, the Agency OMB Clearance Officer, at (202) 720-5778.

Comments

Comments are invited on: (a) whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, 1400 Independence Avenue SW, Room 4162 South Building, Washington, D.C. 20250-2000. All responses to this notice will become a matter of public record.

Signed at Washington, DC, May 1, 2000.
Rich Allen,
Associate Administrator.

[FR Doc. 00-12944 Filed 5-22-00; 8:45 am]

BILLING CODE 3410-20-P